DEPARTMENT OF LABOR

Mine Safety and Health Administration

[OMB Control No. 1219-0083]

Proposed Extension of Information Collection; Daily Inspection of Surface Coal Mines; Certified Person; Reports of Inspection (Pertains to Surface Coal Mines)

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to assure that requested data can be provided in the desired format, reporting burden (time and financial resources) is minimized, collection instruments are clearly understood, and the impact of collection requirements on respondents can be properly assessed. Currently, the Mine Safety and Health Administration (MSHA) is soliciting comments on the information collection for Daily Inspection of Surface Coal Mines; Certified Person; Reports of Inspection (Pertains to Surface Coal Mines).

DATES: All comments must be received on or before July 2, 2019.

ADDRESSES: Comments concerning the information collection requirements of this notice may be sent by any of the methods listed below.

• Federal E-Rulemaking Portal: http://www.regulations.gov. Follow the on-line instructions for submitting comments for docket number MSHA-2019-0010.

• Regular Mail: Send comments to USDOL-MSHA, Office of Standards, Regulations, and Variances, 201 12th Street South, Suite 4E401, Arlington, VA 22202-5452.

• Hand Delivery: USDOL-Mine Safety and Health Administration, 201 12th Street South, Suite 4E401, Arlington, VA 22202-5452. Sign in at the receptionist's desk on the 4th floor via the East elevator.

FOR FURTHER INFORMATION CONTACT: Sheila McConnell, Director, Office of Standards, Regulations, and Variances, MSHA, at MSHA.information.collections@dol.gov (email); 202-693-9440 (voice); or 202-693-9441 (facsimile).

SUPPLEMENTARY INFORMATION:

I. Background

A number of potential hazards can exist at surface coal mines and facilities. Highwalls, mining equipment, travelways, and the handling of mining materials each present potentially hazardous conditions.

Section 103(h) of the Federal Mine Safety and Health Act of 1977 (Mine Act) 30 U.S.C. 813(h), authorizes MSHA to collect information necessary to carry out its duty in protecting the safety and health of miners. Further Section 101(a) of the Mine Act 30 U.S.C. 811 authorizes the Secretary to develop, promulgate, and revise as may be appropriate, improved mandatory health and safety for the protection of life and prevention of injuries in coal or other mines. 30 U.S.C. 811(a).

Section 77.1713, Title 30 of the Code of Federal Regulations requires coal mine operators to conduct examinations of each active working area of surface mines, active surface installations at these mines, facilities and preparation plants not associated with underground coal mines for hazardous conditions during each shift. A report of hazardous conditions detected must be entered into a record book along with a description of any corrective actions taken. By conducting an on shift examination for hazardous conditions, mine operators can better ensure a safe working environment for the miners and a reduction in accidents.

II. Desired Focus of Comments

MSHA is soliciting comments concerning the proposed information collection related to Daily Inspection of Surface Coal Mines; Certified Person; Reports of Inspection (Pertains to Surface Coal Mines). MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at USDOL-Mine Safety and Health Administration, 201 12th South, Suite 4E401, Arlington, VA 22202-5452. Sign in at the receptionist's desk on the 4th floor via the East elevator.

Questions about the information collection requirements may be directed to the person listed in the FOR FURTHER INFORMATION section of this notice.

III. Current Actions

This request for collection of information contains provisions for Daily Inspection of Surface Coal Mines; Certified Person; Reports of Inspection (Pertains to Surface Coal Mines). MSHA has updated the data with respect to the number of respondents, responses, burden hours, and burden costs supporting this information collection request.

Type of Review: Extension, without change, of a currently approved collection

Agency: Mine Safety and Health Administration.

OMB Number: 1219-0083.

Affected Public: Business or other for-profit.

Number of Respondents: 893.

Frequency: On occasion.

Number of Responses: 357,200.

Annual Burden Hours: 535,800 hours.

Annual Respondent or Recordkeeper Cost: $0.

Comments submitted in response to this notice will be summarized and included in the request for Office of Management and Budget approval of the information collection request; they will also become a matter of public record.

Sheila McConnell,
Certifying Officer.

[FR Doc. 2019-09087 Filed 5-2-19; 8:45 am]

BILLING CODE 4510-43-P